DEPARTMENT OF COMMERCE

National Oceanic and Atmospheric Administration

National Estuarine Research Reserve System

AGENCY: Stewardship Division, Office for Coastal Management, National Ocean Service, National Oceanic and Atmospheric Administration, U.S. Department of Commerce.

ACTION: Notice of Public Comment Period for the Weeks Bay National Estuarine Research Reserve Management Plan revision.

SUMMARY: Notice is hereby given that the Stewardship Division, Office for Coastal Management, National Ocean Service, National Oceanic and Atmospheric Administration, U.S. Department of Commerce is announcing a thirty-day public comment period for the Weeks Bay National Estuarine Research Reserve Management Plan revision. Pursuant to 15 CFR Section 921.33(c), the revised plan will bring the reserve into compliance. The Weeks Bay Reserve revised plan will replace the plan approved in 2007.

The revised management plan outlines the administrative structure; the research/monitoring, stewardship, education, and training programs of the reserve; and the plans for future land acquisition and facility development to support reserve operations.

The Weeks Bay Reserve takes an integrated approach to management, linking research, education, coastal training, and stewardship functions. The Alabama Department of Conservation and Natural Resources has outlined how it will administer the Reserve and its core programs by providing detailed actions that will enable it to accomplish specific goals and objectives. Since the last management plan, the Reserve has built out its core programs and monitoring infrastructure; constructed several facilities including a Resource Center that supports education, training, and outreach events; participated in more than 35 research projects and conducted over 100 coastal training program events; convened a permanent Restoration Advisory Board; and built new partnerships with organizations within the Mobile Bay of Alabama.

With the approval of this management plan, the Weeks Bay Reserve will increase their total acreage from, 6,594 acres to 9,317. The change is attributable to the recent acquisitions of several parcels by the Reserve, totaling 933 acres, as well as the incorporation of 1,790 acres of water bottoms adjacent to the newly acquired land. These parcels have high ecological value and will enhance the Reserve's ability to provide increased opportunities for research, education, and stewardship. The revised management plan will serve as the guiding document for the expanded 9,317 acre Weeks Bay Reserve for the next five years.

View the Weeks Bay Reserve Management Plan revision at (http://www.weeksbayreserve.com) and provide comments to the Reserve's Manager, LG Adams (LG.Adams@dcnr.alabama.gov).

FOR FURTHER INFORMATION CONTACT: Hank Hodde at (251) 544-5016 or Erica Seiden at (240) 533-0781 of NOAA's National Ocean Service, Stewardship Division, Office for Coastal Management, 1305 East-West Highway, N/ORM5, 10th floor, Silver Spring, MD 20910.

Dated: December 16, 2016.
John King,
Senior Project Advisor, Office for Coastal Management, National Ocean Service, National Oceanic and Atmospheric Administration.

[FR Doc. 2016-31573 Filed 12-28-16; 8:45 am]

BILLING CODE 3510-08-P